DEPARTMENT OF HEALTH AND HUMAN SERVICES

Food and Drug Administration

[Docket No. FDA-2011-N-0471]

2011 Scientific Meeting of the National Antimicrobial Resistance Monitoring System; Public Meeting; Request for Comments

AGENCY: Food and Drug Administration, HHS.

ACTION: Notice of public meeting; request for comments.

The Food and Drug Administration (FDA) is announcing a public meeting entitled: “2011 Scientific Meeting of the National Antimicrobial Resistance Monitoring System.” The topic to be discussed is animal and retail sampling methods for the National Antimicrobial Resistance Monitoring System (NARMS).

Date and Time: The public meeting will be held on July 20, 2011, from 8 a.m. to 5 p.m.

Location: The public meeting will be held at Holiday Inn Select St. Louis Downtown Convention Center Hotel, 811 North 9th Street, St. Louis, MO 63101, 314-421-4000, FAX: 314-421-5974.

Contact Person: Aleta Sindelar, Center for Veterinary Medicine (HFV-3), Food and Drug Administration, 7519 Standish Pl., Rockville, MD 20855, 240-276-9004, FAX: 240-276-9001, e-mail: Aleta.Sindelar@fda.hhs.gov.

SUPPLEMENTARY INFORMATION: The main purpose of the meeting is to explore ways in which NARMS can improve sampling using current resources. Other topics include:

(1) How should NARMS define adequate sampling for resistance trends?

(2) What are some additional sources for unbiased food animal samples?

(3) What additional information should NARMS collect and report?

Requests for Oral Presentations: Interested persons may present data, information, or views, orally or in writing, on the topic of the discussion of the meeting. Written submissions may be made to the contact person on or before July 6, 2011. Oral presentations from the public during the open public comment period will be scheduled between approximately 2 and 3 p.m. on July 20, 2011. Those desiring to make oral presentations should notify the contact person by July 6, 2011, and submit a brief statement of the general nature of information they wish to present and an indication of the approximate time requested to make their presentation. Time allotted for each presentation may be limited. The contact person will inform each speaker of their schedule prior to the meeting.

Registration is not required for this meeting, however, early arrival is recommended because seating may be limited.

If you need special accommodations due to a disability, please contact Aleta Sindelar (see Contact Person) at least 7 days in advance.

Comments: Regardless of attendance at the public meeting, interested persons may submit to the Division of Dockets Management (HFA-305), Food and Drug Administration, 5630 Fishers Lane, Rm. 1061, Rockville, MD 20852, either electronic or written comments regarding this document. Submit electronic comments to http://www.regulations.gov. It is only necessary to send one set of comments. It is no longer necessary to send two copies of mailed comments. Identify comments with the docket number found in brackets in the heading of this document. Received comments may be seen in the Division of Dockets Management between 9 a.m. and 4 p.m., Monday through Friday. The docket will remain open for written or electronic comments for 30 days following the meeting.

Agenda: The meeting will address goals and challenges of surveying retail meats and food animals for antimicrobial susceptibility in foodborne bacteria. The agenda for the public meeting will be made available on the Agency's Web site at http://www.fda.gov/AnimalVeterinary/SafetyHealth/AntimicrobialResistance/NationalAntimicrobialResistanceMonitoringSystem/ucm059135.htm.

Transcripts: FDA will prepare a meeting transcript and make it available on the Agency's Web site (see Agenda) after the meeting. FDA anticipates that transcripts will be available approximately 60 business days after the meeting. The transcript will be available for public examination at the Division of Dockets Management (HFA-305), Food and Drug Administration, 5630 Fishers Lane, Rm. 1061, Rockville, MD 20852, between 9 a.m. and 4 p.m., Monday through Friday. A transcript will also be available in either hardcopy or on CD-ROM after submission of a Freedom of Information request. Written requests are to be sent to Division of Freedom of Information (ELEM-1029), Food and Drug Administration, 12420 Parklawn Dr., Element Bldg. Rockville, MD 20857.

Dated: June 16, 2011.
Leslie Kux,
Acting Assistant Commissioner for Policy.

[FR Doc. 2011-15982 Filed 6-24-11; 8:45 am]

BILLING CODE 4160-01-P